DEPARTMENT OF HEALTH AND HUMAN SERVICES

National Institutes of Health

National Library of Medicine; Amended Notice of Meeting

Notice is hereby given of a change in the meeting of the Special Emphasis Panel, December 3, 2020, 9:00 a.m. to 5:30 p.m. This notice was published in the Federal Register on September 29, 2020, 85 FR 189, Page 61020.

This notice is being amended to change the date and time to December 17, 2020 from 10:00 a.m. to 5:30 p.m. The meeting is closed to the public.

Dated: October 20, 2020.
Ronald J. Livingston, Jr.,
Program Analyst, Office of Federal Advisory Committee Policy.

[FR Doc. 2020-23584 Filed 10-23-20; 8:45 am]

BILLING CODE 4140-01-P